DEPARTMENT OF TRANSPORTATION

Federal Aviation Administration

14 CFR Part 97

[Docket No. 30489; Amdt. No. 3162 ]

Standard Instrument Approach Procedures, Weather Takeoff Minimums; Miscellaneous Amendments

AGENCY: Federal Aviation Administration (FAA), DOT.

ACTION: Final rule.

SUMMARY: This amendment establishes, amends, suspends, or revokes Standard Instrument Approach Procedures (SIAPs) and/or Weather Takeoff Minimums for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective April 17, 2006. The compliance date for each SIAP and/or Weather Takeoff Minimums is specified in the amendatory provisions.

The incorporation by reference of certain publications listed in the regulations is approved by the Director of the Federal Register as of April 17, 2006.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

For Purchase—Individual SIAP and Weather Takeoff Minimums copies may be obtained from:

1. FAA Public Inquiry Center (APA-200), FAA Headquarters Building, 800 Independence Avenue, SW., Washington, DC 20591; or

2. The FAA Regional Office of the region in which the affected airport is located.

By Subscription—Copies of all SIAPs and Weather Takeoff Minimums mailed once every 2 weeks, are for sale by the Superintendent of Documents, U.S. Government Printing Office, Washington, DC 20402.

FOR FURTHER INFORMATION CONTACT: Donald P. Pate, Flight Procedure Standards Branch (AFS-420), Flight Technologies and Programs Division, Flight Standards Service, Federal Aviation Administration, Mike Monroney Aeronautical Center, 6500 South MacArthur Blvd. Oklahoma City, OK. 73169 (Mail Address: P.O. Box 25082 Oklahoma City, OK. 73125) telephone: (405) 954-4164.

SUPPLEMENTARY INFORMATION: This amendment to Title 14 of the Code of Federal Regulations, part 97 (14 CFR part 97), establishes, amends, suspends, or revokes SIAPs and/or Weather Takeoff Minimums. The complete regulatory description of each SIAP and/or Weather Takeoff Minimums is contained in official FAA form documents which are incorporated by reference in this amendment under 5 U.S.C. 552(a), 1 CFR part 51, and 14 CFR part 97.20. The applicable FAA Forms are identified as FAA Forms 8260-3, 8260-4, 8260-5 and 8260-15A. Materials incorporated by reference are available for examination or purchase as stated above.

The large number of SIAPs and/or Weather Takeoff Minimums, their complex nature, and the need for a special format make their verbatim publication in the Federal Register expensive and impractical. Further, airmen do not use the regulatory text of the SIAPs and/or Weather Takeoff Minimums but refer to their depiction on charts printed by publishers of aeronautical materials. Thus, the advantages of incorporation by reference are realized and publication of the complete description of each SIAP and/or Weather Takeoff Minimums contained in FAA form documents is unnecessary. The provisions of this amendment state the affected CFR sections, with the types and effective dates of the SIAPs and/or Weather Takeoff Minimums. This amendment also identifies the airport, its location, the procedure identification and the amendment number.

The Rule

This amendment to 14 CFR part 97 is effective upon publication of each separate SIAP and/or Weather Takeoff Minimums as contained in the transmittal. Some SIAP and/or Weather Takeoff Minimums amendments may have been previously issued by the FAA in a Flight Data Center (FDC) Notice to Airmen (NOTAM) as an emergency action of immediate flight safety relating directly to published aeronautical charts. The circumstances which created the need for some SIAP, and/or Weather Takeoff Minimums amendments may require making them effective in less than 30 days. For the remaining SIAPs and/or Weather Takeoff Minimums, an effective date at least 30 days after publication is provided.

Further, the SIAPs and/or Weather Takeoff Minimums contained in this amendment are based on the criteria contained in the U.S. Standard for Terminal Instrument Procedures (TERPS). In developing these SIAPs and/or Weather Takeoff Minimums, the TERPS criteria were applied to the conditions existing or anticipated at the affected airports. Because of the close and immediate relationship between these SIAPs and/or Weather Takeoff Minimums and safety in air commerce, I find that notice and public procedure before adopting these SIAPs and/or Weather Takeoff Minimums are impracticable and contrary to the public interest and, where applicable, that good cause exists for making some SIAPs and/or Weather Takeoff Minimums effective in less than 30 days.

Conclusion

The FAA has determined that this regulation only involves an established body of technical regulations for which frequent and routine amendments are necessary to keep them operationally current. It, therefore: (1) Is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR part 97

Air Traffic Control, Airports, Incorporation by reference, and Navigation (Air).

Issued in Washington, DC, on April 7, 2006.
James J. Ballough,
Director, Flight Standards Service.

Adoption of the Amendment

Accordingly, pursuant to the authority delegated to me, under Title 14, Code of Federal Regulations, part 97 (14 CFR part 97) is amended by establishing, amending, suspending, or revoking Standard Instrument Approach Procedures and Weather Takeoff Minimums effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

* * * Effective 08 June 2006

Lake Havasu City, AZ, Lake Havasu City, Takeoff Minimums and Textual DP, Amdt 1

Colorado Springs, CO, City of Colorado Springs Muni, RNAV (GPS) RWY 17R, Amdt 1

Deland, FL, Deland Muni-Sidney H. Taylor Field, RNAV (GPS) RWY 5, Orig

Deland, FL, Deland Muni-Sidney H. Taylor Field, RNAV (GPS) RWY 12, Orig

Deland, FL, Deland Muni-Sidney H. Taylor Field, RNAV (GPS) RWY 30, Orig

Deland, FL, Deland Muni-Sidney H. Taylor Field, GPS RWY 5, Orig-A, CANCELLED

Deland, FL, Deland Muni-Sidney H. Taylor Field, GPS RWY 12, Orig-A, CANCELLED

Deland, FL, Deland Muni-Sidney H. Taylor Field, Takeoff Minimums and Textual DP, Amdt 3

Gainesville, FL, Gainesville Rgnl, Takeoff Minimums and Textual DP, Amdt 1

Milton, FL, Peter Prince Field, RADAR-1, Orig, CANCELLED

Pensacola, FL, Pensacola Regional, RADAR-1, Amdt 3A, CANCELLED

Salmon, ID, Lemhi County, RNAV (GPS)-C, Orig-A

Saginaw, MI, Saginaw County H.W. Browne, RNAV (GPS) RWY 9, Orig

Saginaw, MI, Saginaw County H.W. Browne, RNAV (GPS) RWY 27, Amdt 1

Whitefield, NH, Mount Washington Regional, LOC/NDB RWY 10, Amdt 6

Whitefield, NH, Mount Washington Regional, RNAV (GPS) RWY 10, Amdt 1

Wildwood, NJ, Cape May County, RNAV (GPS) RWY 19, Orig

Wildwood, NJ, Cape May County, VOR/DME RNAV OR GPS RWY 19, Amdt 6B, CANCELLED

Medford, OR, Rogue Valley International-Medford, VOR-A, Amdt 4

Bonham, TX, Jones Field, RNAV (GPS) RWY 17, Amdt 1

Bonham, TX, Jones Field, VOR/DME RWY 17, Amdt 1

Del Rio, TX, Del Rio Intl, LOC RWY 13, Amdt 2

Del Rio, TX, Del Rio Intl, NDB RWY 13, Amdt 1

Del Rio, TX, Del Rio Intl, VOR-A, Amdt 1

Del Rio, TX, Del Rio Intl, VOR/DME-B, Amdt 1

Laredo, TX, Laredo Intl, RNAV (GPS) RWY 14, Orig

Laredo, TX, Laredo Intl, RNAV (GPS) RWY 17L, Orig

Laredo, TX, Laredo Intl, RNAV (GPS) RWY 17R, Orig

Laredo, TX, Laredo Intl, RNAV (GPS) RWY 35L, Orig

Laredo, TX, Laredo Intl, NDB RWY 17L, Amdt 3

Laredo, TX, Laredo Intl, NDB RWY 17R, Amdt 10

Laredo, TX, Laredo Intl, VOR/DME OR TACAN RWY 14, Amdt 10

Port Aransas, TX, Mustang Beach, RNAV (GPS) RWY 12, Orig

Port Aransas, TX, Mustang Beach, RNAV (GPS) RWY 30, Orig

Port Aransas, TX, Mustang Beach, Takeoff Minimums and Textual DP, Orig

Brigham City, UT, Brigham City, RNAV (GPS) RWY 34, Orig

Brigham City, UT, Brigham City, GPS RWY 34, Orig, CANCELLED

Highgate, VT, Franklin County State, RNAV (GPS) RWY 1, Amdt 2

Richland, WA, Richland, RNAV (GPS) RWY 19, Orig

Richland, WA, Richland, RNAV (GPS) RWY 26, Orig

Richland, WA, Richland, LOC RWY 19, Amdt 6

Richland, WA, Richland, NDB RWY 19, Amdt 6

Richland, WA, Richland, VOR RWY 26, Amdt 7

Richland, WA, Richland, VOR/DME-A, Amdt 6

Richland, WA, Richland, Takeoff Minimums and Textual DP, Amdt 7

Huntington, WV, Tri-State/Milton J. Ferguson Field, NDB RWY 12, Amdt 18

Huntington, WV, Tri-State/Milton J. Ferguson Field, RNAV (GPS) RWY 12, Orig

Fond Du Lac, WI, Fond Du Lac County, RNAV (GPS) RWY 36, Orig

Fond Du Lac, WI, Fond Du Lac County, GPS RWY 36, Orig-B, CANCELLED

* * * Effective 03 August 2006

Doylestown, PA, Doylestown, NDB RWY 23, Amdt 2B, CANCELLED

[FR Doc. 06-3560 Filed 4-14-06; 8:45 am]

BILLING CODE 4910-13-P